NATIONAL SCIENCE FOUNDATION

Advisory Committee for Social, Behavioral and Economic Sciences; Notice of Meeting

In accordance with Federal Advisory Committee Act (Pub. L. 92-463, as amended), the National Science Foundation announces the following meeting:

Name: Advisory Committee for Social, Behavioral, and Economic Sciences (#1171).

Date/Time: June 7, 2007; 1 p.m. to 5 p.m.

Place: National Science Foundation, 4201 Wilson Blvd., Room 920, Virtual meeting, Arlington, VA 22230.

Type of Meeting: Open.

Contact Person: Mr. Tyrone Jordan, Office of the Assistant Director, Directorate for Social, Behavioral, and Economic Sciences, National Science Foundation, 4201 Wilson Boulevard, Room 905, Arlington, VA 22230, 703-292-8741.

Summary Minutes: May be obtained from contact person listed above.

Purpose of Meeting: To provide advice and recommendations to the National Science Foundation on major goals and policies pertaining to Social, Behavioral and Economic Sciences Directorate programs and activities.

Agenda: Topics:

• Science of Science and Innovation Policy.

• Human and Social Dynamics Priority Area.

• International Polar Year.

• Division of Social & Economic Sciences: Committee of Visitors (COV) Report.

• Initiatives for the FY 2009 OMB Budget.

• NSTC Subcommittee on the SBE Sciences—Prospectus of Grand Challenges.

• Briefing on IPAMM (Working Group on Impact of Proposal Award and Management Mechanisms).

• Agenda Items for fall 2007 Meeting.

Dated: May 8, 2007.
Susanne Bolton,
Committee Management Officer.

[FR Doc. E7-9091 Filed 5-10-07; 8:45 am]

BILLING CODE 7555-01-P